NUCLEAR REGULATORY COMMISSION

10 CFR Part 71

Regulations for the Safe Transport of Radioactive Material; Public Meeting

AGENCY: U.S. Nuclear Regulatory Commission.

ACTION: Notice of public meeting.

SUMMARY: The U.S. Nuclear Regulatory Commission (NRC) and the U.S. Department of Transportation (DOT) are jointly seeking public views on the proposed changes to the requirements of the 1996 Edition for the Safe Transport of Radioactive Material (TS-R-1). The changes will likely necessitate domestic compatibility rulemakings by both NRC and DOT. To aid in preparing comments, DOT is convening a public meeting as the U.S. competent authority for transportation matters before IAEA. Recognizing DOT's role, in lieu of separate meeting, NRC will participate at the meeting.

DATES: The public meeting will be held on July 22, 2003, from 9:30 a.m. to 11:30 a.m. Written comments will be accepted at the meeting and until August 8, 2003. Comments received after this date will be considered if it is practical to do so, but the Commission is able to assure consideration only for comments received on or before this date.

ADDRESSES: The meeting will be conducted at the Department of Transportation, Nassif Building, 400 Seventh Street, SW., Room 6244, Washington, DC 20590-0001. Details of the meeting can be found at http://a257.g.akamaitech.net/7/257/2422/14mar20010800/edocket.access.gpo.gov/2003/pdf/03-14585.pdf.

Mail comments concerning the meeting to Michael Lesar, Chief, Rules and Directives Branch, Division of Administrative Services, Office of Administration, U.S. Nuclear Regulatory Commission, Washington, DC 20555-0001.

Hand deliver comments to Two White Flint North, 11545 Rockville Pike (Mail Stop T6D59), Rockville, Maryland 20852, between 7:30 a.m. and 4:15 p.m. Federal workdays.

FOR FURTHER INFORMATION CONTACT: John Cook, Office of Nuclear Materials Safety and Safeguards, U.S. Nuclear Regulatory Commission, Washington, DC 20555-0001, telephone: (301) 415-8521; e-mail: jrc1@nrc.gov.

SUPPLEMENTARY INFORMATION:

Background

On May 9, 2003, the International Atomic Energy Agency (IAEA) posted 63 proposed changes to the requirements of the 1996 Edition of the Agency's Regulations for the Safe Transport of Radioactive Material (TS-R-1) on the world wide web (see http://hazmat.dot.gov/files/IAEA_TS-R-1_rev_prop.pdf). IAEA's revision process calls for Member States and International Organizations to have an opportunity for a period of 120 days to provide comments. The objective is publication of revised regulations in 2005, nominally to become effective worldwide in 2007.

The IAEA periodically revises its transportation regulations (referred to as TS-R-1) to reflect new information and accumulated experience. In 2000, IAEA requested proposals for change to ultimately result in a 2005 edition of TS-R-1. Over 200 proposals were submitted to IAEA to change the regulations, guidance material, or identify problems for further work. These were later narrowed down to 63 proposals that were accepted for comment.

Because some of the proposed changes being considered for the 2005 edition of TS-R-1 would, if approved, result in a need to consider a revision of U.S. transport regulations (49 CFR 100-185 and 10 CFR part 71), the DOT and the NRC are jointly seeking public views on the proposed changes. This information will assist DOT and NRC in having a full range of views as the proposals are developed. Note that future domestic rulemakings, if necessary, will continue to follow established rulemaking procedures, including the opportunity to formally comment on proposed rules.

NRC is currently reviewing the proposed changes and will provide comments to DOT. The DOT is the U.S. competent authority before IAEA for radioactive material transportation matters, and will be consolidating U.S. comments to IAEA. On June 10, 2003 (68 FR 34695), DOT published a notice in the Federal Register announcing that DOT will conduct a public meeting to accept comments and answer questions pertaining to the proposed changes on July 22, 2003, at DOT Headquarters. Rather than convene a separate public meeting, as co-regulators for U.S. radioactive material transportation matters, the NRC staff will participate at DOT's public meeting. NRC staff will be available to respond to any technical questions concerning the proposals' potential impacts to Type B or fissile materials regulated in 10 CFR part 71.

Dated at Rockville, Maryland, this 20th day of June 2003.
For the Nuclear Regulatory Commission.
David W. Pstrak,
Transportation and Storage Project Manager, Office of Nuclear Material Safety and Safeguards.

[FR Doc. 03-16175 Filed 6-25-03; 8:45 am]

BILLING CODE 7590-01-P